DEPARTMENT OF COMMERCE

Economic Development Administration

Notice of Petitions by Producing Firms for Determination of Eligibility To Apply for Trade Adjustment Assistance

AGENCY: Economic Development Administration (EDA), Commerce.

ACTION: To give firms an opportunity to comment.

Petitions have been accepted for filing on the dates indicated from the firms listed below.

List of Petition Action By Trade Adjustment Assistance for Period 02/18/2000-03/15/2000
Firm name | Address | Date petition accepted | Product
Yates Foil USA, Inc | 88 Route 130, Bordenton, NJ 08505 | Feb 22, 2000 | Copper foil for the circuit board industry.
Don-Lin Jewelry Company, Inc | 39 Haskins Street, Providence, RI 02903 | Feb 22, 2000 | Earrings, necklaces, pins, bracelets, pill boxes and cosmetic accessories.
Palmer Manufacturing Co., Inc | 243 Medford Street, Malden, MA 02148 | Feb 24, 2000 | Jet engine components.
Esposito Jewelry, Inc | 225 Dupont Drive, Providence, RI 02907 | Feb 24, 2000 | Precious metal, sterling silver and plated base metal jewelry.
Barnhart Industries, Inc. and Orthoband Co., Inc | 3690 Highway M, Imperial, MO 63052 | Feb 24, 2000 | Sewing notions, garters and orthodontic headgear.
Hemingway Apparel Manufacturing, Inc | North Highway 41, Hemingway, SC 29554 | Feb 24, 2000 | Women's briefs and panties, knitted or crocheted of man-made fibers and tee-shirts of cotton for men and women.
Shultz Steel Company | 5321 Firestone Blvd., South Gate, CA 90280 | Feb 24, 2000 Titanium, stainless steel and aluminum aircraft parts |
Edgewater Steel, Ltd | 300 College Avenue, Oakmont, PA 15139 | Feb 29, 2000 | Forged wheels for locomotives and industrial use.
Starbus, Ltd | 91 Mellor Avenue, Baltimore, MD 21228 | Feb 29, 2000 | Jackets and wind shirts for the sporting industry.
Thomas Strahan, Inc | 260 Maple Street, Chelsea, MA 02150 | Feb 29, 2000 | Surface printed wallpaper.
Jan Bar, Inc | 1205 3rd Street, NW, Great Falls, MT 59404 | Mar 2, 2000 | Caps of cotton, nylon, wool and polyester.
ByTec, Inc | 44801 Cemter Court East, Clinton Township, MI 48038 | Mar 3, 2000 | Electrical motors for lumbar systems, plastic switches and lighting, and metal clutch assembly and anti-theft devices.
Zenith Dyeing & Finishing Corporation | 68 E. 24th Street, Patterson, NJ 78514 | Mar 3, 2000 | Commercial dyeing and finishing.
Mohawk Resources, Ltd | 65 Vrooman Avenue, Amsterdam, NY 12010 | Mar 3, 2000 | Vehicle service lifts.
Providence Metallizing Company, Inc | 51 Fairlawn Avenue, Pawtucket, RI 02860 | Mar 3, 2000 | Light fixture parts, key blanks, jewelry and candles.
BPC Industries, Inc | 624 N. Rockford Avenue, Tulsa, OK 74106 | Mar 3, 2000 | Bolts, nuts and gaskets.
Elk Valley Woodworking, Incorporated | Rt. 1, Box 87, Carter, OK 73627 | Mar 3, 2000 | Ornamental wooden plaques.
Looper Leather Goods Company, Inc | 2124 S. Prospect Avenue, Oklahoma City, OK 73129 | Mar 8, 2000 | Leather belts.
Lancaster Steel Service Company, Inc | 3915 Walden Avenue, Lancaster, NY 14086 | Mar 15, 2000 | Flat rolled carbon steel.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: March 21, 2000.
Anthony J. Meyer,
Coordinator,

[FR Doc. 00-7702 Filed 3-28-00; 8:45 am]

BILLING CODE 3510-24-U